DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 2, 2001.

Interested persons are invited to submit written comments regarding the subject matter of the investigations to the Director, Division of Trade Adjustment Assistance, at the address shown below, not later than April 2, 2001.

The petitions filed in this case are available for inspection at the Office of the Director, Division of Trade Adjustment Assistance, Employment and Training Administration, U.S. Department of Labor, Room C-5311, 200 Constitution Avenue, NW., Washington, DC 20210.

Signed at Washington, DC this 26th day of February, 2001.
Edward A. Tomchick,
Director, Division of Trade Adjustment Assistance.

Appendix
[Petitions instituted on 02/26/2001]
TA-W | Subject firm (petitioners) | Location | Date of petition | Product(s)
38,717 | International Paper (Comp) | Milford, ME | 02/15/2001 | Lumber
38,718 | Weyerhaeuser Co (IAM) | Mt. Pine, AR | 02/08/2001 | Millwork Operation
38,719 | Weyerhaeuser Co (IAM) | Dierks, AR | 02/08/2001 | Plywood
38,720 | M and S Sewing, Inc (Wrks) | Van Nuys, CA | 01/29/2001 | Blouses and Uniforms
38,721 | HPM Corp. (Comp) | Mt. Gilead, OH | 01/26/2001 | Injection Molding Equipment
38,722 | Lancaster Electro (Wrks) | Lancaster, OH | 02/12/2001 | Electro Plating
38,723 | Artech Printing, Inc. (GCIU) | Sturtevant, WI | 02/09/2001 | Children's Books
38,724 | United Technologies (IAM) | Zanesville, OH | 02/09/2001 | Headlight Switches
38,725 | Ametek/Dixson Division (Wrks) | Grand Junction, CO | 02/09/2001 | Mechanical Gauges
38,726 | Avery Dennison (Wrks) | Quakertown, PA | 02/08/2001 | Pressure Sensitive Material
38,727 | Edscha—Jackson Division (UAW) | Jackson, MI | 01/30/2001 | Door Hinges for Ford
38,728 | Equistar Chemicals (UAJAPP) | Port Arthur, TX | 02/07/2001 | Polyethylene Plastics
38,729 | CAE Newnes, Inc. (Comp) | Sherwood, OR | 02/08/2001 | Lumber handling Equipment
38,730 | Cardinal Industries (Wrks) | Grundy, VA | 02/08/2001 | Nylon and Satin Jackets
38,731 | Great Lakes Paper Co (IBT) | Clifton, NJ | 02/08/2001 | Materials for Lighting & Lamp Shades
38,732 | Haggar Clothing Co (Comp) | Edinburg, TX | 02/14/2001 | Men's Apparel
38,733 | Oremet (ATI) (USWA) | Albany, OR | 02/10/2001 | Titanium Sponge, Magnesium
38,734 | Quadion Co/Minnesota (USWA) | Mason City, IA | 02/23/2001 | Rubber Power Brakes
38,735 | Motorola (Wrks) | Harvard, IL | 01/23/2001 | Cellular Phones

[FR Doc. 01-6967 Filed 3-20-01; 8:45 am]

BILLING CODE 4510-30-M